DEPARTMENT OF AGRICULTURE

Agricultural Marketing Service

7 CFR Part 929

[Doc. No. AMS-SC-19-0019; SC19-929-1 CR]

Cranberries Grown in the States of Massachusetts, Rhode Island, Connecticut, New Jersey, Wisconsin, Michigan, Minnesota, Oregon, Washington, and Long Island in the State of New York; Continuance Referendum

AGENCY: Agricultural Marketing Service, USDA.

ACTION: Referendum order.

SUMMARY: This document directs that a referendum be conducted among eligible cranberry producers to determine whether they favor continuance of the marketing order regulating the handling of cranberries grown in the States of Massachusetts, Rhode Island, Connecticut, New Jersey, Wisconsin, Michigan, Minnesota, Oregon, Washington, and Long Island in the State of New York.

DATES: The referendum will be conducted from May 6 through May 28, 2019. Only current producers of cranberries within the production area that grew cranberries during the period September 1, 2017, through August 31, 2018, are eligible to vote in this referendum.

ADDRESSES: Copies of the marketing order may be obtained from the Southeast Marketing Field Office, Marketing Order and Agreement Division, Specialty Crops Program, AMS, USDA, 1124 First Street South, Winter Haven, FL 33880; Telephone: (863) 324-3375; from the Office of the Docket Clerk, Marketing Order and Agreement Division, Specialty Crops Program, AMS, USDA, 1400 Independence Avenue SW, STOP 0237, Washington, DC 20250-0237; or on the internet: http://www.regulations.gov.

FOR FURTHER INFORMATION CONTACT: Jennie M. Varela, Marketing Specialist, or Christian D. Nissen, Regional Director, Southeast Marketing Field Office, Marketing Order and Agreement Division, Specialty Crops Program, AMS, USDA, 1124 First Street South, Winter Haven, FL 33880; Telephone: (863) 324-3375, Fax: (863) 291-8614, or Email: Jennie.Varela@usda.gov or Christian.Nissen@usda.gov.

SUPPLEMENTARY INFORMATION: Pursuant to Marketing Agreement and Order No. 929, as amended (7 CFR part 929), hereinafter referred to as the “Order,” and the applicable provisions of the Agricultural Marketing Agreement Act of 1937, as amended (7 U.S.C. 601-674), hereinafter referred to as the “Act,” it is hereby directed that a referendum be conducted to ascertain whether continuance of the Order is favored by producers. The referendum will be conducted from May 6 through May 28, 2019, among cranberry producers in the production area. Only current cranberry producers that were also engaged in the production of cranberries during the period of September 1, 2017, through August 31, 2018, may participate in the continuance referendum.

USDA has determined that continuance referenda are an effective means for determining whether producers favor the continuation of marketing order programs. USDA would consider termination of the Order if less than 50 percent of the producers voting in the referendum and producers of less than 50 percent of the volume of cranberries represented in the referendum favor continuance of the program. In evaluating the merits of continuance versus termination, USDA will not exclusively consider the results of the continuance referendum. USDA will also consider all other relevant information regarding operation of the Order and relative benefits and disadvantages to producers, handlers, and consumers to determine whether continuing the Order would tend to effectuate the declared policy of the Act.

In accordance with the Paperwork Reduction Act of 1995 (44 U.S.C. Chapter 35), the ballot materials used in the referendum have been submitted to and approved by the Office of Management and Budget (OMB) and have been assigned OMB No. 0581-0189, Fruit Crops. It has been estimated it will take an average of 20 minutes for each of the approximately 1,100 cranberry producers to cast a ballot. Participation is voluntary. Ballots postmarked after May 28, 2019, will not be included in the vote tabulation.

Jennie M. Varela and Christian D. Nissen of the Southeast Marketing Field Office, Specialty Crops Program, AMS, USDA, are hereby designated as the referendum agents of the Secretary of Agriculture to conduct this referendum. The procedure applicable to the referendum shall be the “Procedure for the Conduct of Referenda in Connection With Marketing Orders for Fruits, Vegetables, and Nuts Pursuant to the Agricultural Marketing Agreement Act of 1937, as Amended” (7 CFR part 900.400 et seq.).

Ballots will be mailed to all producers of record and may also be obtained from the referendum agents or from their appointees.

List of Subjects in 7 CFR Part 929

Cranberries, Marketing agreements, Reporting and recordkeeping requirements.

Authority: 7 U.S.C. 601-674.

Dated: April 12, 2019.
Bruce Summers,
Administrator, Agricultural Marketing Service.

[FR Doc. 2019-07810 Filed 4-17-19; 8:45 am]

BILLING CODE 3410-02-P